DEPARTMENT OF EDUCATION

National Institute on Disability and Rehabilitation Research—Disability and Rehabilitation Research Projects and Centers Program—Rehabilitation Engineering Research Centers

AGENCY: Office of Special Education and Rehabilitative Services, Department of Education.

ACTION: Notice of final priorities (NFP).

SUMMARY: The Assistant Secretary for Special Education and Rehabilitative Services announces three funding priorities for the National Institute on Disability and Rehabilitation Research's (NIDRR) Disability and Rehabilitation Research Projects and Centers Program, Rehabilitation Engineering Research Centers (RERC) program. Each of these priorities may be used for competitions in fiscal year (FY) 2005 and later years. We take this action to focus research attention on areas of national need. We intend these priorities to improve rehabilitation services and outcomes for individuals with disabilities.

EFFECTIVE DATE: These priorities are effective May 25, 2005.

FOR FURTHER INFORMATION CONTACT: Donna Nangle. Telephone: (202) 245-7462.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Rehabilitation Engineering Research Centers Program

We may make awards under this program for up to 60 months through grants or cooperative agreements to public and private agencies and organizations, including institutions of higher education, Indian tribes, and tribal organizations, to conduct research, demonstration, and training activities regarding rehabilitation technology in order to enhance opportunities for meeting the needs of, and addressing the barriers confronted by, individuals with disabilities in all aspects of their lives. Each RERC must be operated by or in collaboration with an institution of higher education or a nonprofit organization. Additional information on the RERC program can be found at: http://www.ed.gov/rschstat/research/pubs/index.html.

General Requirements of Rehabilitation Engineering Research Centers

RERCs shall carry out research or demonstration activities in support of the Rehabilitation Act of 1973, as amended, by—

• Developing and disseminating innovative methods of applying advanced technology, scientific achievement, and psychological and social knowledge to (1) solve rehabilitation problems and remove environmental barriers and (2) study and evaluate new or emerging technologies, products, or environments and their effectiveness and benefits; or

• Demonstrating and disseminating (1) innovative models for the delivery of cost-effective rehabilitation technology services to rural and urban areas and (2) other scientific research to assist in meeting the employment and independent living needs of individuals with severe disabilities; or

• Facilitating service delivery systems change through (1) the development, evaluation, and dissemination of consumer-responsive and individual and family-centered innovative models for the delivery to both rural and urban areas of innovative cost-effective rehabilitation technology services and (2) other scientific research to assist in meeting the employment and independence needs of individuals with severe disabilities.

Each RERC must provide training opportunities, in conjunction with institutions of higher education and nonprofit organizations, to assist individuals, including individuals with disabilities, to become rehabilitation technology researchers and practitioners.

The Department is particularly interested in ensuring that the expenditure of public funds is justified by the execution of intended activities and the advancement of knowledge and, thus, has built this accountability into the selection criteria. During the funding cycle of any RERC, NIDRR will conduct one or more reviews of the activities and achievements of the RERC. In accordance with the provisions of 34 CFR 75.253(a), continued funding depends at all times on satisfactory performance and accomplishment.

Public Comment

We published a notice of proposed priorities (NPP) for this program in the Federal Register on November 26, 2004 (69 FR 68890). The NPP included a background statement that described our rationale for proposing these priorities.

In response to our invitation in the NPP, we received nine comments. An analysis of the comments is included as an appendix to this notice.

Generally, we do not address technical and other minor changes and suggested changes we are not authorized to make under the applicable statutory authority. This NFP contains no changes from the NPP.

Note: This notice does not solicit applications. In any year in which we choose to use one or more of these final priorities, we invite applications through a notice in the Federal Register. When inviting applications we designate each priority as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority, we are particularly interested in applications that meet the invitational priority. However, we do not give an application that meets the priority a competitive or absolute preference over other applications (34 CFR 75.105(c)(1)).

Note: NIDRR supports the goals of President Bush's New Freedom Initiative (NFI). The NFI can be accessed on the Internet at the following site: http://www.whitehouse.gov/infocus/newfreedom.

The final priorities are in concert with NIDRR's 1999-2003 Long-Range Plan (Plan). The Plan is comprehensive and integrates many issues relating to disability and rehabilitation research topics. While applicants will find many sections throughout the Plan that support potential research to be conducted under the final priorities, a specific reference is included for each of the priorities presented in this notice. The Plan can be accessed on the Internet at the following site: http://www.ed.gov/rschstat/research/pubs/index.html.

Through the implementation of the NFI and the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

Priorities

The Assistant Secretary intends to fund RERCs, each of which must focus on one of the following priorities: (a) Technologies for Children with Orthopedic Disabilities, (b) Low Vision and Blindness, or (c) Universal Design and the Built Environment.

(a) Technologies for Children with Orthopedic Disabilities: This RERC must research and develop technologies that will help children with orthopedic disabilities overcome functional deficits and that will support their ability to learn, play, and interact socially. The reference for this priority can be found in the Plan, chapter 5, Technology for Access and Function: Research to Enhance Mobility, and Research to Improve Manipulation Ability.

(b) Low Vision and Blindness: This RERC must research and develop technologies that will improve assessment of vision impairments and promote independence for individuals with low vision and blindness, including those who are deaf/blind. The reference for this priority can be found in the Plan, chapter 5, Technology for Access and Function: Research to Improve or Substitute for Sensory Functioning.

(c) Universal Design and the Built Environment: This RERC must research, develop, and evaluate strategies and devices that will advance the field of universal design and assist designers, builders, and manufacturers with incorporating universal design in their products and buildings. The reference for this priority can be found in the Plan, chapter 5, Technology for Access and Function: Systems Technology: Universal Design and Accessibility.

Under any one of these priorities, RERCs must focus on innovative technological solutions, new knowledge, and concepts to promote the health, safety, independence, active engagement in daily activities, and quality of life of persons with disabilities. Accordingly, each RERC must:

(1) Contribute substantially to the technical and scientific knowledge-base relevant to the priority;

(2) Research, develop, and evaluate innovative technologies, products, environments, performance guidelines, and monitoring and assessment tools as applicable to the priority;

(3) Identify, implement, and evaluate, in collaboration with the relevant industry, professional associations, and institutions of higher education, innovative approaches to expand research capacity in the specific field of study;

(4) Monitor trends and evolving product concepts that represent and signify future directions for technologies in the specific area of research; and

(5) Provide technical assistance to public and private organizations responsible for developing policies, guidelines, and standards that affect the specific area of research.

In addition, the following requirements apply to each RERC priority:

• Each RERC must have the capability to design, build, and test prototype devices and assist in the transfer of successful solutions to relevant production and service delivery settings. Each RERC must evaluate the efficacy and safety of its new products, instrumentation, or assistive devices.

• Each RERC must develop and implement, in the first three months of the grant, a plan that describes how the RERC will include, as appropriate, individuals with disabilities or their representatives in all phases of its activities including research, development, training, dissemination, and evaluation;

• Each RERC must develop and implement, in the first year of the grant and in consultation with the NIDRR-funded National Center for the Dissemination of Disability Research (NCDDR), a plan to disseminate the RERC's research results to persons with disabilities, their representatives, disability organizations, service providers, professional journals, manufacturers, and other interested parties.

• Each RERC must develop and implement, in the first year of the grant and in consultation with the NIDRR-funded RERC on Technology Transfer, a plan for ensuring that all new and improved technologies developed by this RERC are successfully transferred to the marketplace.

• Each RERC must conduct a state-of-the-science conference on its respective area of research in the third year of the grant and publish a comprehensive report on the final outcomes of the conference in the fourth year of the grant.

• Each RERC must coordinate with research projects of mutual interest with relevant NIDRR-funded projects as identified through consultation with the NIDRR project officer.

Executive Order 12866

This notice of final priorities has been reviewed in accordance with Executive Order 12866. Under the terms of the order, we have assessed the potential costs and benefits of this regulatory action.

The potential costs associated with the notice of final priorities are those resulting from statutory requirements and those we have determined as necessary for administering this program effectively and efficiently.

In assessing the potential costs and benefits—both quantitative and qualitative—of this notice of final priorities, we have determined that the benefits of the final priorities justify the costs.

Summary of Potential Costs and Benefits

The potential costs associated with these final priorities are minimal while the benefits are significant. Grantees may anticipate costs associated with completing the application process in terms of staff time, copying, and mailing or delivery. The use of e-Application technology reduces mailing and copying costs significantly.

The benefits of the RERC Program have been well established over the years in that similar projects have been completed successfully. These final priorities will generate new knowledge and technologies through research, development, dissemination, utilization, and technical assistance projects.

Another benefit of these final priorities will be the establishment of new RERCs that support the President's NFI and will improve the lives of persons with disabilities. The new RERCs will generate, disseminate, and promote the use of new information that will improve the options for individuals with disabilities to perform regular activities in the community.

Applicable Program Regulations: 34 CFR part 350.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number: 84.133E, Rehabilitation Engineering Research Centers Program)

Program Authority: 29 U.S.C. 762(g) and 764(b)(3).

Dated: April 6, 2005.
John H. Hager,
Assistant Secretary for Special Education and Rehabilitative Services.

Appendix

Analysis of Comments and Changes

Comment: One commenter believes the target audience for the Universal Design and the Built Environment priority should be expanded beyond architects and interior designers to include consumer product and package designers.

Discussion: An applicant could propose activities that include consumer product and package designers and the peer review process will evaluate the merits of the proposal. However, NIDRR has no basis for requiring all applicants to include consumer product and package designers.

Changes: None.

Comment: One commenter believes the Universal Design and the Built Environment priority should require applicants to research, develop, and evaluate innovative ways to present human factors and other user data so that designers are more likely to incorporate the information into their designs.

Discussion: An applicant could propose activities that include innovative ways to present human factors and other user data so that designers are more likely to incorporate the information into their designs and the peer review process will evaluate the merits of the proposal. However, NIDRR has no basis for requiring all applicants to include these specific types of activities in their proposals.

Changes: None.

Comment: One commenter states that persons with cognitive disabilities have been underserved by the universal design community and believes the Universal Design and the Built Environment priority should require applicants to include the design needs of persons with cognitive disabilities in their research and development projects.

Discussion: Although NIDRR agrees with the commenter that the universal design community has been slow to include the design needs of persons with cognitive disabilities, it has no basis for requiring that all applicants focus on this population. Applicants are encouraged to include the population in their applications. The peer review process will evaluate the merits of the proposal.

Changes: None.

Comment: One commenter asked whether the Universal Design and the Built Environment priority applies only to architectural design.

Discussion: The Universal Design and the Built Environment priority does not apply only to architectural design. Applicants are required to advance the field of universal design and assist designers as well as builders and manufacturers, with incorporating universal design in their products and buildings.

Changes: None.

Comment: Three commenters believe applicants responding to the Low Vision and Blindness priority should be required to target populations across their lifespan, including early infancy, and to include a focus on employment.

Discussion: NIDRR agrees with the commenters that there is a need to target populations across their lifespan, including early infancy, and to focus on employment. However, NIDRR believes that there are simply not enough resources allocated for this RERC to make it a requirement for all applicants. An applicant could propose activities that target populations across their lifespan, including early infancy, and that focus on employment. The peer review process will evaluate the merits of the proposal.

Changes: None.

Comment: One commenter asked NIDRR to clarify that the Low Vision and Blindness priority is not restricted to only computer access.

Discussion: The Low Vision and Blindness priority is not restricted only to computer access. Applicants are required to research and develop technologies that will improve assessment of vision impairments and promote independence for individuals with low vision and blindness, including those who are deaf/blind. Proposals may focus on computer access as well as other relevant technologies.

Changes: None.

Comment: One commenter asked whether the Technologies for Children with Orthopedic Disabilities priority is limited to conventional prosthetics and orthotics or whether it could be more broadly interpreted to include technology that can enhance the rehabilitation of children with orthopedic disabilities.

Discussion: The Technologies for Children with Orthopedic Disabilities priority is not limited to conventional prosthetics and orthotics. The focus of this priority is broader. Accordingly, applicants are required to research and develop technologies that will help children with orthopedic disabilities overcome functional deficits and that will support their ability to learn, play, and interact socially.

Changes: None.

Comment: One commenter asked if NIDRR uses the same definition of orthopedic disability as the Office of Special Education and Rehabilitative Services (OSERS).

Discussion: NIDRR generally uses a modified version of the OSERS definition that includes an emphasis on function and mobility to improve participation and community living by individuals with disabilities.

Changes: None.

Comment: One commenter asked how much discretion an applicant has when determining the type and number of projects they include in their application.

Discussion: An applicant has full discretion when determining the type and number of projects included in a proposal provided the projects are responsive to the given priority. The peer review process will evaluate the merits of the proposal.

Changes: None.

[FR Doc. 05-8101 Filed 4-22-05; 8:45 am]

BILLING CODE 4000-01-P